DEPARTMENT OF COMMERCE

International Trade Administration

[A-549-821]

Polyethylene Retail Carrier Bags From Thailand: Rescission of Antidumping Duty Administrative Review in Part; 2014-2015

AGENCY: Enforcement and Compliance, International Trade Administration, Department of Commerce.

SUMMARY: The Department of Commerce (the Department) is rescinding its administrative review in part on polyethylene retail carrier bags from Thailand for the period of review (POR) August 1, 2014, through July 31, 2015.

DATES: Effective date: January 15, 2016.

FOR FURTHER INFORMATION CONTACT: Andre Gziryan, AD/CVD Operations Office I, Enforcement and Compliance, International Trade Administration, U.S. Department of Commerce, 14th Street and Constitution Avenue NW., Washington, DC 20230; telephone: (202) 482-2201.

SUPPLEMENTARY INFORMATION:

Background

On August 3, 2015, we published a notice of opportunity to request an administrative review of the antidumping duty order on polyethylene retail carrier bags from Thailand for the POR August 1, 2014, through July 31, 2015.¹ On October 6, 2015, in response to timely requests from the petitioners ² and in accordance with section 751(a) of the Tariff Act of 1930, as amended (the Act), and 19 CFR 351.221(c)(1)(i), we initiated an administrative review of the antidumping duty order on polyethylene retail carrier bags from Thailand with respect to 45 companies.³ On December 18, 2015, the petitioners withdrew their request for an administrative review for 44 out of 45 companies.⁴ No other party requested a review.

¹ See Antidumping or Countervailing Duty Order, Finding, or Suspended Investigation; Opportunity To Request Administrative Review, 80 FR 45952 (August 3, 2015).

² Polyethylene Retail Carrier Bag Committee and its individual members, Hilex Poly Co., LLC and Superbag Corporation (collectively, the petitioners).

³ See Initiation of Antidumping and Countervailing Duty Administrative Reviews, 80 FR 60356 (October 6, 2015).

⁴ The 44 companies for which the petitioners have withdrawn their request for a review are as follows: 2 P Work Co., Ltd., 2PK Interplas Co., Ltd., Angkapol Plastech Co., Ltd., Asia Industry Co., Ltd., Asian Packaging Limited Partnership, Bags and Gloves Co., Ltd., Completely Co., Ltd., C.P. Poly Industry Co., Ltd., CT Import-Export Co., Ltd., Dpac Inter. Corporation Co., Ltd., DTOP Co., Ltd., Ecoplas (Thailand) Co., Ltd., Elite Poly and Packaging Co., Ltd., Firstpack Co. Ltd., G.L.K. (Thailand) Co., Ltd., Green Smile Supply Co., Ltd., Hinwiset Packaging Limited Partnership, King Bag Co., Ltd., King Pac Industrial Co., Ltd., KPA Packing & Product Co., Ltd., Napa Plastic Co., Ltd., Naraipak Co., Ltd., NKD Intertrade Limited Partnership, NNN Packaging Limited Partnership, Northeast Pack Company Limited, P.C.S. International Company Limited, Pasiam Ltd., Partnership, PMC Innopack Co., Ltd., Poly Plast (Thailand) Co., Ltd., Poly World Co., Ltd., PPN Plaspack Limited Partnership, Prepack Thailand Co., Ltd., PSSP Plaspack Co., Ltd., SSGT Products Limited Partnership, Super Grip Co., Ltd., T.P. Plaspack Co., Ltd., T.T.P. Packaging (Thailand) Co., Ltd., Thantawan Industry Public Co., Ltd., Triple B Pack Co., Ltd., Triyamook Vanich Limited Partnership, Two Path Plaspack Co., Ltd., Udomrutpanich Limited Partnership, Win Win and Pro Pack Co. Ltd., and Winbest Industrial (Thailand) Co., Ltd. See letter from the petitioners to the Department, “Polyethylene Retail Carrier Bags from Thailand: Partial Withdrawal of Request for Administrative Review” (December 18, 2015). No withdrawal was requested for K. International Packing Co., Ltd.

Rescission of Administrative Review in Part

Pursuant to 19 CFR 351.213(d)(1), the Department will rescind an administrative review, “in whole or in part, if a party that requested a review withdraws the request within 90 days of the date of publication of notice of initiation of the requested review.” Because the petitioners withdrew their review request in a timely manner, and because no other party requested a review of these companies, we are rescinding the administrative review in part with respect to the aforementioned 44 companies.

Assessment

The Department will instruct U.S. Customs and Border Protection (CBP) to assess antidumping duties on all appropriate entries. For the aforementioned companies, for which the review is rescinded, antidumping duties shall be assessed at rates equal to the cash deposit of estimated antidumping duties required at the time of entry, or withdrawal from warehouse, for consumption, in accordance with 19 CFR 351.212(c)(1)(i). The Department intends to issue appropriate assessment instructions to CBP within 15 days after publication of this notice.

Notifications to Importers

This notice serves as a final reminder to importers of their responsibility under 19 CFR 351.402(f)(2) to file a certificate regarding the reimbursement of antidumping duties prior to liquidation of the relevant entries during this review period. Failure to comply with this requirement may result in the Department's presumption that reimbursement of antidumping duties occurred and the subsequent assessment of doubled antidumping duties.

Notification Regarding Administrative Protective Orders

This notice also serves as a reminder to parties subject to administrative protective order (APO) of their responsibility concerning the disposition of proprietary information disclosed under APO, in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: January 8, 2016.
Christian Marsh,
Deputy Assistant Secretary for Antidumping and Countervailing Duty Operations.

[FR Doc. 2016-00619 Filed 1-14-16; 8:45 am]

BILLING CODE 3510-DS-P